DEPARTMENT OF DEFENSE

Department of the Air Force

HQ USAF Scientific Advisory Board

AGENCY: Department of the Air Force, DoD.

ACTION: Notice of meeting.

SUMMARY: Pursuant to Public Law 92-463, notice is hereby given of the forthcoming meeting of the Predictive Battlespace Awareness (PBA) to improve military effectiveness, Operational Architecture Panel. The purpose of the meeting is to allow the SAB and study leadership to discuss operational architecture issues in a classified forum with the CINC's representatives. This meeting will be closed to the public.

DATES: 20-24 May 2002.

ADDRESSES: HQ SPACECOM (Building and Room: TBD), Colorado Springs, CO. HQ STRATCOM (Building and Room: TBD), Omaha, NE.

FOR FURTHER INFORMATION CONTACT: Colonel Marian Alexander, Air Force Scientific Advisory Board Secretariat, 1180 Air Force Pentagon, Rm 5D982, Washington DC 20330-1180, (703) 697-4811.

Pamela D. Fitzgerald,
Air Force Federal Register Liaison Officer.

[FR Doc. 02-12085 Filed 5-14-02; 8:45 am]

BILLING CODE 5001-05-U